DEPARTMENT OF AGRICULTURE

Agricultural Marketing Service

7 CFR Parts 916 and 917

[Docket No. FV03-916-3]

Nectarines and Peaches Grown in California; Announcement of Public Meeting To Review Orders

AGENCY: Agricultural Marketing Service, USDA.

ACTION: Notice of public meeting and request for comments.

SUMMARY: Notice is hereby given that a public meeting will be held to provide information to the U. S. Department of Agriculture (USDA) on whether the Federal marketing order programs for California nectarines and peaches should be continued, modified or terminated. Growers, handlers, and other interested persons are invited to submit written comments to USDA and/or present oral comments at the meeting with respect to the continued operations of the marketing order programs.

DATES: The public meeting will begin at 8:30 a.m. P.D.T. on May 20, 2003, and continue until 5 p.m. The meeting will continue on May 21, 2003, from 8:30 a.m. to 12 p.m., if necessary. The meeting will be held at the Dinuba Memorial Building, 249 South Alta Avenue, Dinuba, California; telephone: 559-591-2223. Written comments will be received through June 20, 2003.

ADDRESSES: Written comments should be sent to California Marketing Field Office, Marketing Order Administration Branch, Fruit and Vegetable Programs, AMS, 2202 Monterey Street, Suite 102B, Fresno, California 93721, Attention: Kurt Kimmel; telephone: (559) 487-5901, Fax: (559) 487-5906 or E-mail: moab.docketclerk@usda.gov. All written comments should reference the docket number and the date and page number of this issue of the Federal Register and will be made available for public inspection in the California Marketing Field Office during regular business hours or can be viewed at: http://www.ams.usda.gov/fv/moab.html. Written comments received before the meeting will also be available for public inspection at the meeting.

FOR FURTHER INFORMATION CONTACT: Kathleen M. Finn, Marketing Order Administration Branch, Fruit and Vegetable Programs, AMS, USDA, 1400 Independence Avenue, SW., STOP 0237, Washington, DC 20250-0237; telephone: (202) 720-2491, or Fax: (202) 720-8938.

SUPPLEMENTARY INFORMATION: Continuance referenda were held from January 6 through January 31, 2003, to determine whether the marketing order programs for nectarines, pears and peaches grown in California should be continued. Results of the pear continuance referendum demonstrated support for the pear program to be continued. However, in the nectarine and peach referenda, fewer than two-thirds of those voting supported continuation of the programs. This notice announces a meeting to provide additional information for USDA on the marketing order programs for nectarines (M.O. 916) and peaches (M.O. 917) to evaluate the future of these programs.

On March 27, 2003, USDA announced it would hold listening sessions in the production area. The meeting will provide an opportunity for those in the industry to present detailed information on the present performance of the two marketing order programs. Information regarding present performance may include an analysis of the programs' cost effectiveness with regard to administration, research and advertising. USDA also seeks comments on whether amendment of some of the regulatory aspects of the two programs would make the programs more effective and create more support among growers and handlers. Finally, USDA seeks views on whether the orders for nectarines and peaches should be terminated. Interested persons are encouraged to send written comments to USDA and/or present oral comments at the meeting. Because we do not intend to transcribe the oral comments at the meeting, oral commenters are encouraged to submit their comments also in writing for best consideration.

Written comments, views, opinions, and other information regarding the nectarine, pear, and peach marketing orders' impact on small businesses are invited.

Dated: April 15, 2003.
A.J. Yates,
Administrator, Agricultural Marketing Service.

[FR Doc. 03-9672 Filed 4-18-03; 8:45 am]

BILLING CODE 3410-02-P